SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before February 12, 2001.

ADDRESSES: Send all comments regarding whether these information collections are necessary for the proper performance of the function of the agency, whether the burden estimate is accurate, and if there are ways to minimize the estimated burden and enhance the quality of the collections, to Carol Fendler, System Accountant, Office of Investment Division, Small Business Administration, 409 3rd Street, SW., Suite 6300.

FOR FURTHER INFORMATION CONTACT: Carol Fendler, System Accountant, 202-205-7759 or Curtis B. Rich, Management Analyst, (202) 295-7030.

SUPPLEMENTARY INFORMATION:

Title: Size Status Declaration.

Form No.: 480.

Description of Respondents: Small Business Investment Companies.

Annual Responses: 4,200.

Annual Burden: 700.

Title: SBIC License Application Statement of Personal History and Qualification of Management.

Form No's.: 415, 415A.

Description of Respondents: Small Business Investment Companies.

Annual Responses: 90.

Annual Burden: 14,400.

Title: Stockholder's Confirmation (Corporation) Ownership Confirmation (Partnership).

Form No.: 1405.

Description of Respondents: Small Business Investment Companies.

Annual Responses: 600.

Annual Burden: 600.

Title: SBIC Financial Reports.

Form No.: 468.

Description of Respondents: Small Business Investment Companies.

Annual Responses: 625.

Annual Burden: 1,025.

Title: Portfolio Financing Report.

Form No.: 1031.

Description of Respondents: Small Business Investment Companies.

Annual Responses: 2,100.

Annual Burden: 420.

Jacqueline White,
Chief, Administrative Information Branch.

[FR Doc. 00-31510 Filed 12-11-00; 8:45 am]

BILLING CODE 8025-01-M